DEPARTMENT OF JUSTICE

Notice of Lodging of Proposed Consent Decree Under the Comprehensive Environmental Response, Compensation, and Liability Act

On March 20, 2020, the Department of Justice lodged a proposed First Partial Consent Decree and proposed Second Partial Consent Decree with the United States District Court for the Western District of Texas in the lawsuit titled United States of America v. Ector Drum, Inc., et al., Civil Action No. 7:20 cv 00074.

The two partial consent decrees resolve claims against Ector Drum Inc., Carl Randle Beard, Sandra Kay Beard, BB Chemicals, Inc., Continental Products of Texas, Energy Intermediates, Inc., Hess Corporation, Kel Tech, Inc., Monachem, Inc., Novastar L.P., Performance Chemical Company, Tetraco, LLC, and Wagner Supply Co., Inc. arising under Section 107(a) of the Comprehensive Environmental Response, Compensation, and Liability Act (“CERCLA”), 42 U.S.C. 9607(a), relating to the Ector Drum Superfund Site in Ector County, Texas. Under the proposed First Partial Consent Decree, the Defendants BB Chemicals, Inc., Continental Products of Texas, Energy Intermediates, Inc., Hess Corporation, Kel Tech, Inc., Monachem, Inc., Novastar L.P., Performance Chemical Company, Tetraco, LLC, and Wagner Supply Co., Inc. will pay, collectively, $1,575,255 to the United States resolve the United States' claims. Under the proposed Second Partial Consent Decree, Defendants Ector Drum Inc., Carl Randle Beard, and Sandra Kay Beard will endeavor to sell the property on which the Site is located and pay a specified portion of the proceeds of any sale(s) to the United States.

The publication of this notice opens a period for public comment on the proposed First Partial Consent Decree and Second Partial Consent Decree. Comments should be addressed to the Assistant Attorney General, Environment and Natural Resources Division, and should refer to United States of America v. Ector Drum, Inc., et al., D.J. Ref. No. 90-11-3-11781/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the proposed First Partial Consent Decree and Second Partial Consent Decree upon written request and payment of reproduction costs. Please mail your request and payment to: Consent Decree Library, U.S. DOJ—ENRD, P.O. Box 7611, Washington, DC 20044-7611.

Please enclose a check or money order for $7.75 for the First Partial Consent Decree and $7.25 for the Second Partial Consent Decree (25 cents per page reproduction cost) payable to the United States Treasury.

Thomas Carroll,
Assistant Chief, Environmental Enforcement Section, Environment and Natural Resources Division.

[FR Doc. 2020-06369 Filed 3-25-20; 8:45 am]

BILLING CODE 4410-15-P